DEPARTMENT OF JUSTICE

Antitrust Division

Notice Pursuant to the National Cooperative Research and Production Act of 1993; Southwest Research Institute: Fuel Filtration Cooperative R&D Program; Phase III

Notice is hereby given that, on June 8, 2001, pursuant to Section 6(a) of the National Cooperatiave Research and Production Act of 1993, 15 U.S.C. 4301 et seq. (“the Act”), Southwest Research Institute: Fuel Filtration Cooperative R&D Program—Phase III has filed written notifications simultaneously with the Attorney General and the Federal Trade Commission disclosing changes in its area of planned activity and membership status. The notifications were filed for the purpose of extending the Act's provisions limiting the recovery of antitrust plaintiffs to actual damages under specified circumstances. Specifically, the period of performance has been extended to December 31, 2001; and Fleetguard, Inc., Cookeville, TN is no longer a party to this venture.

No other changes have been made in either the membership or planned activity of the group research project. Membership in this group research project remains open, and Southwest Research Institute: Fuel Filtration Cooperative R&D Program—Phase III intends to file additional written notification disclosing all changes in membership.

On March 1, 1999, Southwest Research Institute: Fuel Filtration Cooperative R&D Program—Phase III file its original notification pursuant to Section 6(a) of the Act. The Department of Justice a notice in the Federal Register pursuant to Section 6(b) of the Act on May 26, 1999 (64 FR 28521). A correction notice was published in the Federal Register on July 11, 2000 (65 FR 42727). The last notification was filed with the Department on July 30, 1999. A notice was published in the Federal Register on March 2, 2001 (66 FR 13083).

Constance K. Robinson,
Director of Operations, Antitrust Division.

[FR Doc. 01-19393 Filed 8-2-01; 8:45 am]

BILLING CODE 4410-11-M